SMALL BUSINESS ADMINISTRATION

[Declaration of Disaster #3555]

State of California (Amendment #4)

In accordance with a notice received from the Department of Homeland Security—Federal Emergency Management Agency, effective January 14, 2004, the above numbered declaration is hereby amended to establish the incident period for this disaster as beginning October 21, 2003, and continuing through February 2, 2004.

The incident type has also been expanded specifically for flooding, mudflow and debris flow directly related to the wildfires.

All other information remains the same, i.e., the deadline for filing applications for physical damage remains as January 9, 2004, and for economic injury the deadline is July 27, 2004.

(Catalog of Federal Domestic Assistance Program Nos. 59002 and 59008.)
Dated: January 15, 2004.
Herbert L. Mitchell,
Associate Administrator for Disaster Assistance.

[FR Doc. 04-1396 Filed 1-22-04; 8:45 am]

BILLING CODE 8025-01-P